DEPARTMENT OF DEFENSE

GENERAL SERVICES ADMINISTRATION

NATIONAL AERONAUTICS AND SPACE ADMINISTRATION

48 CFR Chapter 1

[Docket No. FAR-2019-0001, Sequence No. 7]

Federal Acquisition Regulation; Federal Acquisition Circular 2020-02; Introduction

AGENCY: Department of Defense (DoD), General Services Administration (GSA), and National Aeronautics and Space Administration (NASA).

ACTION: Summary presentation of a final rule.

SUMMARY: This document summarizes the Federal Acquisition Regulation (FAR) rule agreed to by the Civilian Agency Acquisition Council and the Defense Acquisition Regulations Council (Councils) in this Federal Acquisition Circular (FAC) 2020-02. A companion document, the Small Entity Compliance Guide (SECG), follows this FAC. The FAC, including the SECG, is available via the internet at http://www.regulations.gov.

DATES: For effective date see the separate document, which follows.

FOR FURTHER INFORMATION CONTACT: Ms. Marilyn E. Chambers, Procurement Analyst, at 202-285-7380 or marilyn.chambers@gsa.gov for clarification of content. For information pertaining to status or publication schedules, contact the Regulatory Secretariat Division at 202-501-4755. Please cite FAC 2020-02, FAR Case 2013-002.

Rule Listed in FAC 2020-02
Subject | FAR Case | Analyst
Reporting of Noncomforming Items to the Government-Industry Data Exchange Program | 2013-002 | Chambers.

SUPPLEMENTARY INFORMATION: A summary for the FAR rule follows. For the actual revisions and/or amendments made by this FAR case, refer to the specific subject set forth in the document following this item summary. FAC 2020-02 amends the FAR as follows:

Reporting of Nonconforming Items to the Government-Industry Data Exchange Program (FAR Case 2013-002)

This final rule amends the FAR to require contractors and subcontractors to report to the Government-Industry Data Exchange Program (GIDEP) certain counterfeit or suspect counterfeit parts and certain major or critical nonconformances. This change implements sections 818(c)(4) and (c)(5) of the National Defense Authorization Act for Fiscal Year 2012, which require DoD contractors and subcontractors to report counterfeit or suspect counterfeit electronic parts purchased by or for DoD to GIDEP. In addition, the FAR Council extended coverage of the proposed rule by policy to cover other Government agencies, other types of parts, and other types of nonconformance. In response to public comments, this final rule has more limited scope than the proposed rule, exempting contracts and subcontracts for commercial items and limiting the clause application to acquisitions of items that require higher level quality standards, critical items, or electronic parts by or for DoD.

William F. Clark,
Director, Office of Government-wide Acquisition Policy, Office of Acquisition Policy, Office of Government-wide Policy.

Federal Acquisition Circular (FAC) 2020-02 is issued under the authority of the Secretary of Defense, the Administrator of General Services, and the Administrator of National Aeronautics and Space Administration.

Unless otherwise specified, all Federal Acquisition Regulation (FAR) and other directive material contained in FAC 2020-02 is effective November 22, 2019 except for FAR Case 2013-002, which is effective December 23, 2019.

Kim Herrington,

Acting Principal Director, Defense Pricing and Contracting, Department of Defense.

Jeffrey A. Koses,

Senior Procurement Executive/Deputy CAO, Office of Acquisition Policy, U.S. General Services Administration.

William G. Roets, II,

Acting Assistant Administrator, Office of Procurement, National Aeronautics and Space Administration.

[FR Doc. 2019-24963 Filed 11-21-19; 8:45 am]

BILLING CODE 6820-EP-P